FEDERAL COMMUNICATIONS COMMISSION

47 CFR Part 73

[DA 05-2209; MB Docket No. 05-244; RM-11257]

Radio Broadcasting Services; Fruit Cove and St. Augustine, FL

AGENCY: Federal Communications Commission.

ACTION: Proposed rule.

SUMMARY: This document requests comments on a petition for rulemaking filed by Renda Broadcasting Corporation of Nevada, licensee of Station WSOS-FM, Channel 231C3, St. Augustine, Florida. Petitioner proposes to reallot Channel 231C3 from St. Augustine to Fruit Cove, Florida, as the community's first local transmission service, and to modify the license for Station WSOS-FM to reflect the change of community. The proposed coordinates for Channel 231C3 at Fruit Cove are 30-01-27 NL and 81-36-19 WL with a site restriction of 10.2 kilometers (6.4 miles) south of the community.

DATES: Comments must be filed on or before September 19, 2005, and reply comments on or before October 4, 2005.

ADDRESSES: Secretary, Federal Communications Commission, 445 Twelfth Street, SW., Washington, DC 20554. In addition to filing comments with the FCC, interested parties should serve the Petitioner's counsel as follows: Mark N. Lipp, Esq., Vinson & Elkins L.L.P., 1455 Pennsylvania Ave., NW., Suite 600, Washington, DC 20004-1008.

FOR FURTHER INFORMATION CONTACT: Helen McLean, Media Bureau, (202) 418-2738.

SUPPLEMENTARY INFORMATION: This is a synopsis of the Commission's Notice of Proposed Rule Making, MB Docket No. 05-244, adopted July 27, 2005, and released July 29, 2005. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Florida, is amended by removing Channel 231C3 at St. Augustine and by adding Fruit Cove, Channel 231C3.

Federal Communications Commission.
John A. Karousos,
Assistant Chief, Audio Division, Media Bureau.

[FR Doc. 05-16065 Filed 8-16-05; 8:45 am]

BILLING CODE 6712-01-P